DEPARTMENT OF VETERANS AFFAIRS

38 CFR Part 17

RIN 2900-AN86

Payment or Reimbursement for Emergency Services for Nonservice-Connected Conditions in Non-VA Facilities; Correction

AGENCIES: Department of Veterans Affairs.

ACTION: Correcting amendments.

SUMMARY: This document corrects a Department of Veterans Affairs (VA) final rule that governs “Payment or Reimbursement for Emergency Services for Nonservice-Connected Conditions in Non-VA Facilities” regulations to conform with a statutory change that expanded veterans' eligibility for reimbursement. This document corrects a typographical error without making any substantive change to the content of the final rule.

DATES: Effective Date: This correction is effective June 17, 2013.

FOR FURTHER INFORMATION CONTACT: Willie Douglas, Policy Specialist, Policy Management Department (CBOPC), Department of Veterans Affairs, 3773 Cherry Creek North Drive, Suite 450, Denver, CO 80209 at (303) 331-7829. This is not a toll-free number.

SUPPLEMENTARY INFORMATION: VA published a proposed rule in the Federal Register on May 26, 2011 (76 FR 30598), which, among other things, revised 38 CFR 17.1005. These revisions eliminated certain exclusions from emergency care payment or reimbursement, and defined the payment limitations for those qualifying for payment or reimbursement under the law as amended by Public Law 111-137, enacted on February 1, 2010. In the proposed rule we stated that § 17.1005 would be amended by adding new paragraphs (c) and (d). However, before VA published a final rule based on that proposed rule, on December 21, 2011 (76 FR 79071), VA published an entirely separate final rule that added new paragraphs (c) and (d) to § 17.1005. Then, VA published a final rule on April 20, 2012 (77 FR 23615), where we acknowledged that VA had already added new paragraphs (c) and (d) to § 17.1005 (in the December 21, 2011, final rule) and, accordingly, renumbered the proposed § 17.1005(c) as new § 17.1005(e). However, in the final rule published on April 20, 2012, VA inadvertently failed to correct a cross-reference in the newly renumbered § 17.1005(e)(3), from (c)(2) (in the proposed rule) to the new (e)(2) (which should have been cited in the final rule). This document corrects that error by removing (c)(2) from § 17.1005(e)(3) and adding, in its place, (e)(2).

List of Subjects in 38 CFR Part 17

Administrative practice and procedure, Alcohol abuse, Alcoholism, Claims, Day care, Dental health, Drug abuse, Foreign relations, Government contracts, Grant programs—Health, Grant programs—Veterans, Health care, Health facilities, Health professions, Health records, Homeless, Medical and dental schools, Medical devices, Medical research, Mental health programs, Nursing homes, Philippines, Reporting and recordkeeping requirements, Scholarships and fellowships, Travel and transportation expenses, Veterans.

William F. Russo,
Deputy Director, Regulation Policy and Management, Office of the General Counsel, Department of Veterans Affairs.

For the reasons set forth in the preamble, the Department of Veterans Affairs is correcting 38 CFR part 17 as follows:

PART 17—MEDICAL

1. The authority citation for part 17 continues to read as follows:

Authority: 38 U.S.C. 501, and as noted in specific sections.

2. Amend § 17.1005(e)(3) by removing “(c)” and adding, in its place, “(e)”.

[FR Doc. 2013-14249 Filed 6-14-13; 8:45 am]

BILLING CODE 8320-01-P